NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 13, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food Safety and Inspection Service (N1-462-04-21, 1 item, 1 temporary item). Master files of an electronic information system used to track the inspection of animal carcasses for diseases and other conditions that may result in the animal being condemned as unfit for human consumption. The proposed disposition instructions are limited to electronic records.

2. Department of Defense, Army and Air Force Exchange Service (N1-334-09-1, 2 items, 2 temporary items). Registers used to record and control the assignment of form numbers.

3. Department of Homeland Security, Office of the General Counsel (N1-563-08-33, 13 items, 11 temporary items). Administrative appeals and hearings case files, application files received by the Board of Correction of Military Records, copies of documents produced in response to Congressional information requests, disclosure and prohibited personnel practices complaints case files, administrative record files for non-significant regulatory actions, working papers associated with all administrative record files, informational law and intellectual property files, non-significant legal matters advice and analysis files, legislation monitoring files for bills not enacted into law, non-significant litigation case files, and potential claims files. Proposed for permanent retention are administrative record files for significant regulatory actions and legal history files, which consist of records relating to significant legal matters, monitoring of bills enacted into law, and significant litigation case files.

4. Department of Homeland Security, Office of Security (N1-563-09-1, 2 items, 2 temporary items). Master files and outputs of an electronic information system used to manage and vet foreign visitors to agency facilities.

5. Department of Homeland Security, Office of Security (N1-563-09-2, 2 items, 2 temporary items). Master files of an electronic information system used in connection with background screenings, threat assessments, and badging of visitors to agency facilities.

6. Department of Homeland Security, National Protection and Programs Directorate (N1-563-08-26, 1 item, 1 temporary item). Master files of an electronic information system that contains data concerning the operational bombing prevention and response capabilities of Federal, state, and local first responders.

7. Department of Homeland Security, National Protection and Programs Directorate (N1-563-08-28, 2 items, 2 temporary items). Master files of an electronic information system that tracks how terrorist groups design, manufacture, and deploy improvised explosive devices.

8. Department of the Interior, Office of the Secretary (N1-48-08-24, 1 item, 1 temporary item). Master files of an electronic information system that contains data used for performance reporting under the Government Performance and Results Act.

9. Joint Staff, Office of the Chairman (N1-218-09-2, 1 item, 1 temporary item). Master files of an electronic information system that contains data concerning gifts given by the Chairman, such as names of recipients, descriptions of gifts, and vendor information.

10. Department of Justice, Civil Division (N1-60-09-10, 1 item, 1 temporary item). Master files of an electronic information system used to manage the creation, location, content, and disposition of division litigation case files.

11. Department of Justice, Bureau of Prisons (N1-129-09-17, 1 item, 1 temporary item). Master files of an electronic information system that contains data concerning individuals approved to correspond with inmates.

12. Department of Justice, Federal Bureau of Investigation (N1-65-09-7, 2 items, 2 temporary items). Laboratory Division training records, including administrative records and records relating to the Annual Crime Laboratory Development Symposium.

13. Department of Justice, Federal Bureau of Investigation (N1-65-09-8, 9 items, 9 temporary items). Human resources records, including files relating to career management and to the work life program, chaplains' program, and crisis preparation and intervention program.

14. Department of the Treasury, Internal Revenue Service (N1-58-09-7, 2 items, 2 temporary items). Case files and electronic data that relate to financial obligations of agency employees and the garnishment of employee salaries.

15. Department of the Treasury, Internal Revenue Service (N1-58-09-9, 1 item, 1 temporary item). Comment cards used by taxpayers to provide customer feedback to Field Assistance offices.

Dated: March 5, 2009.
Michael J. Kurtz,
Assistant Archivist for Records Services—Washington, DC.

[FR Doc. E9-5382 Filed 3-11-09; 8:45 am]

BILLING CODE 7515-01-P